DEPARTMENT OF AGRICULTURE

Food and Nutrition Service

Improving Access to the Summer Food Service Program

AGENCY: Food and Nutrition Service, USDA.

ACTION: Notice.

SUMMARY: This notice solicits comments related to methods for improving access to the Summer Food Service Program by children in needy areas.

DATES: Comments must be postmarked by March 29, 2004 to be considered.

ADDRESSES: Comments should be addressed to Mr. Robert Eadie, Chief, Policy and Program Development Branch, Child Nutrition Division, Food and Nutrition Service, Department of Agriculture, 3101 Park Center Drive, Room 634, Alexandria, Virginia 22302-1594. Comments will also be accepted via e-mail sent to cndproposal@fns.usda.gov. All written submissions, including e-mail submissions, will be available for public inspection in Room 634 Monday through Friday, 8:30 a.m.-5 p.m.

FOR FURTHER INFORMATION CONTACT: Keith Churchill or Marcus Hambrick, Policy and Program Development Branch, at the above address, or by telephone at (703) 305-2590.

SUPPLEMENTARY INFORMATION: The Food and Nutrition Service, USDA (FNS) is committed to improving access to the Summer Food Service Program (SFSP), authorized by Section 13 of the Richard B. Russell National School Lunch Act, 42 U.S.C. 1761, by children in needy areas. FNS has partnered with national service organizations to promote the SFSP, utilized regional and local community groups to identify unique demographic needs and participation barriers, met with potential sponsoring organizations and community leaders to identify potential solutions to common barriers and targeted specific unserved and underserved areas for Program expansion. In addition to these endeavors, State agencies have made significant efforts to promote and expand the Program.

These endeavors have led FNS to develop and implement additional outreach projects to improve Program access. As part of a comprehensive outreach effort, FNS has developed a media kit and marketing campaign, created SFSP promotional articles for newsletters and publications, and conducted activities designed for specific unserved and underserved areas.

Additionally, FNS has developed Program policies that encourage and expand access to the Program by children in needy areas. Allowing school sponsors to serve summer meals under an existing National School Lunch Program agreement has enabled seamless year-round participation. Other policies include authorizing eligibility determinations based on alternate means in lieu of applications, expanding approved meal service times, and waiving certain budget requirements. Collectively, changes to Program policies have enabled sponsors' participation in the SFSP while considering unique circumstances.

While modest success has been achieved in increasing Program participation by children, FNS continues to solicit comments and evaluate innovative suggestions related to improving Program access, especially in rural areas. In recent years, FNS has received and evaluated numerous suggestions, including: waiving application requirements for enrolled sites in needy areas, allowing off-site consumption of meals, establishing pilot programs to further evaluate innovative methods to improve Program access and even altering the congregate feeding design of the current program to accommodate home-based lunches. As a result of these and other suggestions, FNS has expanded Program access and lessened the management burden placed on Program sponsors.

FNS solicits comments and suggestions related to Program access from all parties. FNS is particularly interested in suggestions from faith-based and community-based organizations, which might take advantage of existing service delivery methods and expand opportunities for program participation by such organizations.

Commenters should consider that FNS does not have the authority to waive certain statutory and regulatory requirements that govern the SFSP, e.g. reimburse sponsors that operate in areas where fewer than 50 percent of children are eligible, implement policy that increases Federal costs, or change the nutritional content of meals served. Additionally, FNS will not entertain suggestions that might compromise the health and safety of children who participate in the Program.

FNS encourages all interested parties to submit comments and suggestions related to improving Program access.

Dated: January 22, 2004.
Roberto Salazar,
Administrator.

[FR Doc. 04-1731 Filed 1-26-04; 8:45 am]

BILLING CODE 3410-30-P